DEPARTMENT OF THE INTERIOR

Bureau of Land Management

[18X.LLAK941000.L1440000.ET0000; F-92350]

Public Land Order No. 7870; Extension of Public Land Order No. 5645, as Extended by Public Land Order No. 7336; Alaska

AGENCY: Bureau of Land Management, Interior.

ACTION: Public Land Order.

SUMMARY: This Public Land Order (PLO) extends the duration of the withdrawal of public land created by two prior PLOs (PLO No. 5645, as extended by PLO No. 7336), for an additional 20-year term. Approval of this PLO would allow the continued operation of the United States (U.S.) and Canadian Joint Use Port of Entry, Poker Creek Border Station. Without an extension, the current PLO will expire on July 18, 2018. If the withdrawal expires, the selection by the State of Alaska would immediately become effective and the land would be eligible for transfer out of Federal ownership.

PLO No. 5645 withdrew approximately ten acres of public land from settlement, sale, location or entry under the general land laws, including U.S. mining laws, and reserved them for the maintenance of the Poker Creek Border Station in Alaska. PLO No. 7336 extended PLO No. 5645 for an additional 20-year term and transferred administrative jurisdiction from the U.S. Department of the Treasury to the General Services Administration.

DATES: This PLO takes effect on July 19, 2018.

FOR FURTHER INFORMATION CONTACT: David V. Mushovic, BLM Alaska State Office, 222 West Seventh Avenue, Mailstop 13, Anchorage, AK 99513-7504, 907-271-4682, or dmushovi@blm.gov. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The withdrawal requires this extension to continue to protect and reserve the land for the U.S. and Canadian Joint Use Port of Entry Poker Creek Border Station.

Order

By virtue of the authority vested in the Secretary of the Interior by Section 204 of the Federal Land Policy and Management Act of 1976, 43 U.S.C. 1714, it is ordered as follows:

1. Public Land Order No. 5645, (43 FR 31006, (1978)), as extended by Public Land Order No. 7336 (63 FR 30511, (1998)), which withdrew public land from settlement, sale, location, or entry, under all of the general land laws, including U.S. mining laws, and reserved it as an administrative site for the maintenance of the Poker Creek Border Station, is hereby extended for an additional 20-year period.

2. The withdrawal extended by this Order will expire on July 18, 2038, unless as a result of a review conducted prior to the expiration date, pursuant to Section 204(f) of the Federal Land Policy and Management Act of 1976, 43 U.S.C. 1714(f), the Secretary determines that the withdrawal shall be further extended.

Dated: June 22, 2018.
Joseph R. Balash,
Assistant Secretary—Land and Minerals Management.

[FR Doc. 2018-15335 Filed 7-17-18; 8:45 am]

BILLING CODE 4310-JA-P